FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011606-003.

Title: COSCO/KL Slot Exchange Agreement.

Parties: COSCO Container Lines, Kawasaki Kisen Kaisha, Ltd.

Synopsis: The proposed amendment extends the effectiveness of the agreement to terminate upon the effective date of the COSCO/KL/YMUK Asia/U.S. Pacific Coast Slot Allocation Agreement. The agreement shall continue to apply to voyages in progress at the time the successor agreement becomes effective until completion of same. The parties requested expedited review.

Agreement No.: 011746.

Title: COSCON/KL/YMUK Asia/U.S. Pacific Coast, Slot Allocation Agreement.

Parties: COSCO Container Lines, Kawasaki Kisen Kaisha, Ltd., Yangming (UK) Ltd.

Synopsis: The proposed agreement would replace three previous agreements between the parties and/or their affiliates. The parties requested expedited review.

Dated: February 9, 2001.
By Order of the Federal Maritime Commission.
Bryant L. VanBrakle,
Secretary.

[FR Doc. 01-3765 Filed 2-13-01; 8:45 am]

BILLING CODE 6730-01-P